DEPARTMENT OF HEALTH AND HUMAN SERVICES

Centers for Medicare and Medicaid Services

Notice of Grant Award to The National Council on the Aging, To Evaluate a Project Entitled, “Cost-Effective and Scalable Strategies for Enrolling Medicare Beneficiaries in Medicare Prescription Drug Extra Help”

AGENCY: Centers for Medicare and Medicaid Services (CMS), HHS.

ACTION: Notice of grant award.

SUMMARY: The Centers for Medicare and Medicaid Services has awarded a grant entitled, “Cost-Effective and Scalable Strategies for Enrolling Medicare Beneficiaries in Medicare Prescription Drug Extra Help” to The National Council on the Aging, 300 D Street, SW., Suite 801, Washington, DC 20024, in response to an unsolicited proposal. The period of performance is March 1, 2006 through February 28, 2007 (Year 1). The applicant proposes to use private-public partnerships to support a five-year strategy of identifying and enrolling eligible beneficiaries through a series of tailored, list-driven intervention approaches already known to be effective in Low-Income Subsidy (LIS) enrollment. The National Council on the Aging (NCOA) is partnering with Benefits Data Trust (BDT) to lead this list-driven intervention research project. They have already received private funds which they plan to award in grants to support test interventions for the proposed study. NCOA expects to test 24-30 intervention approaches over a five-year period.

The NCOA team is soliciting CMS cooperation and support to accomplish two objectives critical to the success of the interventions. First, the proposed project will facilitate an ongoing partnership between NCOA and CMS to refine marketing lists by identifying beneficiaries already enrolled in the Medicare Part D Low-Income Subsidy (LIS) or Medicaid. This will allow BDT to create the “cleanest” list possible of potential LIS-eligibles. BDT reported that use of similarly refined lists for outreach efforts to low income populations has increased the enrollment success rate, and decreased the cost of enrollment.

Secondly, NCOA is seeking CMS funding to evaluate alternative, list-based outreach strategies. NCOA intends to partner with L&M Policy Research for the evaluation of intervention approaches. In addition, NCOA will rely on Bridgespan to be an advisor for cost-effectiveness studies. Evaluation of these approaches could supplement existing market research knowledge, and be useful for quality improvement of ongoing and future beneficiary outreach efforts for LIS.

FOR FURTHER INFORMATION CONTACT: Susie Butler, Project Officer, Center for Beneficiary Choices, Centers for Medicare & Medicaid Services, 7500 Security Blvd., Stop S2-22-05, Baltimore, MD 21244, (410) 786-7211 or Judy Norris, Grants Officer, Department of Health and Human Services, OAGM/CMS, 7500 Security Blvd., Stop C2-21-15, Baltimore, MD 21244, (410) 786-5130.

Authority: Catalog of Federal Domestic Assistance Program No. 93-779, Center for Medicare and Medicaid Services, Research, Demonstrations and Evaluations; Section 1110 of the Social Security Act.

Dated: February 28, 2006.
Mark B. McClellan,
Administrator, Centers for Medicare and Medicaid Services.

[FR Doc. 06-2092 Filed 3-1-06; 1:52 pm]

BILLING CODE 4120-01-P